DEPARTMENT OF DEFENSE

Office of the Secretary

[Transmittal No. 24-61]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-61, Policy Justification, and Sensitivity of Technology.

Dated: November 13, 2025.
Aaron T. Siegel,
Alternate OSD Federal Register Liaison Officer, Department of Defense.

BILLING CODE 6001-FR-P

BILLING CODE 6001-FR-C

Transmittal No. 24-61

Notice of Proposed Issuance of Letter of Offer Pursuant to Section 36(b)(1) of the Arms Export Control Act, as amended

(i) Prospective Purchaser: Government of Denmark

(ii) Total Estimated Value:

Major Defense Equipment * | $105 million
Other | $ 16 million
TOTAL | $121 million

(iii) Description and Quantity or Quantities of Articles or Services under Consideration for Purchase:

Major Defense Equipment (MDE):

Three hundred thirty-nine (339) M982A1 Excalibur tactical projectiles

Non-MDE:

Also included are Portable Electronic Fire Control Systems (PEFCS); Improved Platform Integration Kits (iPIK); Simple Key Loaders (SKLs); extractors; Surface Danger Zones (SDZs); training for new equipment; spare parts; U.S. Government technical assistance; technical data; repair and return services; and other related elements of logistics and program support.

(iv) Military Department: Army (DE-B-VME)

(v) Prior Related Cases, if any: None

(vi) Sales Commission, Fee, etc., Paid, Offered, or Agreed to be Paid: None

(vii) Sensitivity of Technology Contained in the Defense Article or Defense Services

Proposed to be Sold: See Attached Annex

(viii) Date Report Delivered to Congress: August 20, 2024

* as defined in Section 47(6) of the Arms Export Control Act.

POLICY JUSTIFICATION

Denmark—Excalibur Projectiles

The Government of Denmark has requested to buy three hundred thirty-nine (339) M982A1 Excalibur tactical projectiles. Also included are Portable Electronic Fire Control Systems (PEFCS); Improved Platform Integration Kits (iPIK); Simple Key Loaders (SKLs); extractors; Surface Danger Zones (SDZs); training for new equipment; spare parts; U.S. Government technical assistance; technical data; repair and return services; and other related elements of logistics and program support. The estimated cost is $121 million.

This proposed sale will enhance the foreign policy and national security objectives of the United States by helping to improve the security of a NATO Ally that is a force for political stability and economic progress in Europe.

The proposed sale will improve Denmark's capability to meet current and future threats by providing precision capability equipment and increasing first strike accuracy in its brigades. Denmark will have no difficulty absorbing these articles and services into its armed forces.

The proposed sale of this equipment and support will not alter the basic military balance in the region.

The principal contractor will be RTX Corporation, located in Tucson, Arizona. The purchaser typically requests offsets. Any offset agreement will be defined in negotiations between the purchaser and the contractor.

Implementation of this proposed sale will not require the assignment of any additional U.S. Government or contractor representatives to Denmark.

There will be no adverse impact on U.S. defense readiness as a result of this proposed sale.

Transmittal No. 24-61

Notice of Proposed Issuance of Letter of Offer Pursuant to Section 36(b)(1) of the Arms Export Control Act

Annex

Item No. vii

(vii) Sensitivity of Technology:

1. The M982A1 Excalibur 155 mm High Explosive projectile is an all-up projectile with global positioning system (GPS) aided precision guidance capability provided by either Selective Availability Anti-Spoofing Module (SAASM) or M-Code. The Excalibur provides the ability to accurately engage targets at distances up to 25 miles. Excalibur is commonly fired from U.S. Army and Marine Corps towed and self-propelled howitzer systems, including the M777 and M109.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Denmark can provide substantially the same degree of protection for the sensitive technology being released as the U.S. Government. This sale is necessary in furtherance of the U.S. foreign policy and national security objectives outlined in the Policy Justification.

5. All defense articles and services listed in this transmittal have been authorized for release and export to the Government of Denmark.

[FR Doc. 2025-20082 Filed 11-17-25; 8:45 am]

BILLING CODE 6001-FR-P